DEPARTMENT OF HOMELAND SECURITY

Coast Guard

33 CFR Part 117

[USCG-2005-22362; Formerly CGD08-05-046]

RIN 1625-AA09

Drawbridge Operation Regulation; Gulf Intracoastal Waterway, West Larose, LA

AGENCY: Coast Guard, DHS.

ACTION: Notice of proposed rulemaking; change of address and docket number for comments.

SUMMARY: On September 2, 2005, the Coast Guard published a notice and requested comments on a proposed change to regulations governing the operation of the SR 1 (West Larose) vertical lift bridge across the Gulf Intracoastal Waterway, mile 35.6 west of Harvey Lock, at Larose, Louisiana. The proposed rule would change the bridge's schedule so that it would remain closed to navigation at various times on weekdays during the school year to facilitate the safe, efficient movement of staff, students and other residents within the parish. That notice was issued August 26, 2005, before Hurricane Katrina struck New Orleans and caused that city to be flooded. We have changed the address and docket number where comments on the proposed rule should be sent because of flood conditions in New Orleans.

DATES: Comments and related material must reach the Coast Guard on or before November 1, 2005.

ADDRESSES: You may submit comments identified by Coast Guard docket number USCG-2005-22362 to the Docket Management Facility at the U.S. Department of Transportation. To avoid duplication, please use only one of the following methods:

(1) Web Site: http://dms.dot.gov.

(2) Mail: Docket Management Facility, U.S. Department of Transportation, 400 Seventh Street SW., Washington, DC 20590-0001.

(3) Fax: 202-493-2251.

(4) Delivery: Room PL-401 on the Plaza level of the Nassif Building, 400 Seventh Street SW., Washington, DC, between 9 a.m. and 5 p.m., Monday through Friday, except Federal holidays. The telephone number is 202-366-9329.

(5) Federal eRulemaking Portal: http://www.regulations.gov.

FOR FURTHER INFORMATION CONTACT: Roger Wiebusch, Bridge Administration Branch, telephone 314 539-3900, ext. 2378.

SUPPLEMENTARY INFORMATION:

Request for Comments

We encourage you to participate in this rulemaking by submitting comments and related material. If you do so, please include your name and address, identify the docket number for this rulemaking (USCG-2005-22362), indicate the specific section of this document to which each comment applies, and give the reason for each comment. Please submit all comments and related material in an unbound format, no larger than 8½ by 11 inches, suitable for copying. If you would like to know they reached us, please enclose a stamped, self-addressed postcard or envelope. We will consider all comments and material received during the comment period. We may change this proposed rule in view of them.

Change of Address and Docket

The notice of proposed rulemaking published September 2, 2005 (70 FR 52343) entitled, “Drawbridge Operation Regulation; Gulf Intracoastal Waterway, West Larose, LA”, listed an address in New Orleans, LA, as the place to send your comments on the proposed rule. That rulemaking notice was issued August 26, 2005, before Hurricane Katrina struck New Orleans and flooded that city. We have changed the location for receiving comments because of flood conditions in New Orleans. If you wish to comment on the proposed rule, send your comment to the Docket Management Facility in Washington, DC, by one of the means indicated in the ADDRESSES section above in this notice.

With this change of address, we have also changed the docket number to USCG-2005-22362. Please use this new docket number.

Dated: September 2, 2005.
Stefan G. Venckus,
Chief, Office of Regulations and Administrative Law, U.S. Coast Guard.

[FR Doc. 05-17831 Filed 9-8-05; 8:45 am]

BILLING CODE 4910-15-P